DEPARTMENT OF COMMERCE

Foreign-Trade Zones Board

[B-67-2013]

Foreign-Trade Zone (FTZ) Zone 44—Mt. Olive, New Jersey; Notification of Proposed Production Activity; Givaudan Fragrances Corporation (Fragrance and Flavor Products); Mt. Olive, New Jersey

Givaudan Fragrances Corporation (Givaudan) submitted a notification of proposed production activity for its facility in Mt. Olive, New Jersey. The notification conforming to the requirements of the regulations of the FTZ Board (15 CFR 400.22) was received on June 11, 2013.

Givaudan currently has authority to produce fragrance and flavor compounds within Site 1 of FTZ 44. The current request would add four foreign status components to the scope of authority. Pursuant to 15 CFR 400.14(b), additional FTZ authority would be limited to the specific foreign-status materials and components and specific finished products described in the submitted notification (as described below) and subsequently authorized by the FTZ Board.

Production under FTZ procedures could exempt Givaudan from customs duty payments on the foreign status components used in export production. On its domestic sales, Givaudan would be able to choose the duty rate during customs entry procedures that applies to fragrance and flavor compounds (duty-free) for the foreign status inputs noted below and in the existing scope of authority. Customs duties also could possibly be deferred or reduced on foreign status production equipment.

The components and materials sourced from abroad include: cocoa beans extract (duty rate—free to 1%); aloe vera gel spray dried powder (duty rate—free to 1%); actiphyte of wild cherry (duty rate—free to 1%); fructose (krystar 300) (duty rate—9.6%); maltrin 100 (maltodextrin) DQ (duty rate—0.35¢/liter); maltodextrin (corn) DE 10 (duty rate—0.35¢/liter); and, sodium carbonate, anhydrous (duty rate—1.2%)

Public comment is invited from interested parties. Submissions shall be addressed to the Board's Executive Secretary at the address below. The closing period for their receipt is August 12, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Kathleen Boyce at Kathleen.Boyce@trade.gov or (202) 482-1346.

Dated: June 26, 2013.
Elizabeth Whiteman,
Acting Executive Secretary.

[FR Doc. 2013-15884 Filed 7-1-13; 8:45 am]

BILLING CODE 3510-DS-P